DEPARTMENT OF HEALTH AND HUMAN SERVICES

Centers for Medicare & Medicaid Services

[CMS-9035-N]

Medicare and Medicaid Programs; Quarterly Listing of Program Issuances—January Through March 2006

AGENCY: Centers for Medicare & Medicaid Services (CMS), HHS.

ACTION: Notice.

SUMMARY: This notice lists CMS manual instructions, substantive and interpretive regulations, and other Federal Register notices that were published from January 2006 through March 2006, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations. Finally, this notice includes a list of Medicare-approved carotid stent facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities may be addressed to Sarah J. McClain, Office of Clinical Standards and Quality, Centers for Medicare & Medicaid Services, C1-09-06, 7500 Security Boulevard, Baltimore, MD 21244-1850, or you can call (410) 786-2994.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication(54 FR 34555). Those interested in the revised process used in making NCDs under the Medicare program may review the September 26, 2003, publication (68 FR 55634).

To aid the reader, we have organized and divided this current listing into eight addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

III. How To Obtain Listed Material

A. Manuals

Those wishing to subscribe to program manuals should contact either the Government Printing Office (GPO) or the National Technical Information Service (NTIS) at the following addresses:

Superintendent of Documents, Government Printing Office, ATTN: New Orders, P.O. Box 371954, Pittsburgh, PA 15250-7954, Telephone (202) 512-1800, Fax number (202) 512-2250 (for credit card orders); or

National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare NCD publication titled “Cardiac Catheterization Performed in Other Than a Hospital Setting,” use CMS-Pub. 100-03, Transmittal No. 46.

(Catalog of Federal Domestic Assistance Program No. 93.773, Medicare—Hospital Insurance, Program No. 93.774, Medicare—Supplementary Medical Insurance Program, and Program No. 93.714, Medical Assistance Program.)
Dated: June 6, 2006.
Jacquelyn Y. White,
Director, Office of Strategic Operations and Regulatory Affairs.

Addendum I

This addendum lists the publication dates of the most recent quarterly listings of program issuances.

December 24, 2003 (68 FR 74590)

March 26, 2004 (69 FR 15837)

June 25, 2004 (69 FR 35634)

September 24, 2004 (69 FR 57312)

December 30, 2004 (69 FR 78428)

February 25, 2005 (70 FR 9338)

June 24, 2005 (70 FR 36620)

September 23, 2005 (70 FR 55863)

December 23, 2005 (70 FR 76290)

March 24, 2006 (71 FR 14903)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[January through March 2006]
Transmittal No. | Manual/subject/publication No.
Medicare General Information (CMS Pub. 100-01)
34 | Change Management Process—Electronic Change Information Management Portal (eChimp).
35 | Revisions to Instructions for Contractors Other Than the Religious Nonmedical Health Care Institution Specialty Contractor Regarding Claims for Beneficiaries With Religious Nonmedical Health Care Institution Elections.
| Religious Nonmedical Health Care Institution Defined.
36 | Scheduled Release for April 2006 Software Programs and Pricing/Coding Files.
Medicare Benefit Policy (CMS Pub. 100-02)
44 | Update to the End-Stage Renal Disease Composite Payment Rates.
| New End-Stage Renal Disease Composite Payment Rates Effective January 1, 2006.
45 | Revisions to Instructions for Contractors Other Than the Religious Nonmedical Health Care Institution Specialty Contractor Regarding Claims for Beneficiaries With Religious Nonmedical Health Care Institution Elections.
| Religious Nonmedical Health Care Institution Services.
| Beneficiary Eligibility for Religious Nonmedical Health Care Institution Services.
| Election of Religious Nonmedical Health Care Institution Benefits.
| Revocation of Religious Nonmedical Health Care Institution Election.
| Religious Nonmedical Health Care Institution Election After Prior Revocation.
| Medicare Payment for Religious Nonmedical Health Care Institution Services and Beneficiary Liability.
| Coverage of Religious Nonmedical Health Care Institution Items Furnished in the Home.
| Coverage and Payment of Durable Medical Equipment Under the Religious Nonmedical Health Care Institution Home Benefit.
| Coverage and Payment of Home Visits Under the Religious Nonmedical Health Care Institution Home Benefit.
46 | This Transmittal is rescinded and replaced by Transmittal 47.
47 | Therapy Caps Exception Process.
| Coverage of Outpatient Rehabilitation Therapy Services (Physical Therapy, Occupational Therapy, and Speech-Language Pathology Services) Under Medical Insurance.
| Documentation Requirements for Therapy Services.
48 | Glaucoma Screening Services.
| Preventive and Screening Services.
| Glaucoma Screening.
49 | Payment of Federally Qualified Health Centers for Diabetes Self Management Training Services and Medical Nutrition Therapy Services.
| Rural Health Clinic and Federally Qualified Health Center Service Defined.
| Rural Health Clinic Services.
| Federally Qualified Health Center Services.
Medicare National Coverage Determinations (CMS Pub. 100-03)
46 | Cardiac Catheterization Performed in Other Than a Hospital Setting.
47 | Changes to the Covered Indications for Tumor Antigen by Immunoassay CA 125 to Add Primary Peritoneal Carcinoma.
| Tumor Antigen by Immunoassay CA 125.
48 | Technical Corrections to the NCD Manual.
| Hyperbaric Oxygen Therapy.
| Home Glucose Monitors.
| Vitrectomy.
| Abortion.
| Diathermy Treatment.
| Assessing Patients Suitability for Electrical Nerve Stimulation Therapy.
| Electroencephalographic Monitoring During Surgical Procedures Involving the Cerebral Vasculature.
| Diagnostic Pap Smears.
| Human Immunodeficiency Virus Testing (Diagnosis).
| Prostate Cancer Screening Tests.
| Screening Pap Smears and Pelvic Examinations for Early Detection of Cervical Or Vaginal Cancer.
| Non-Implantable Pelvic Floor Electrical Stimulator.
| Levocarnitine for Use in the Treatment of Carnitine Deficiency in End-Stage Renal Disease Patients.
| Adult Liver Transplantation.
| Obsolete or Unreliable Diagnostic Tests.
49 | Microvolt T-Wave Alternans Diagnostic Testing.
50 | External Counterpulsation Therapy.
Medicare Claims Processing (CMS Pub. 100-04)
803 | Administration of Drugs and Biologicals in a Method II Critical Access Hospital—Rescinds and replaces Change Request 3911.
| Costs of Emergency Room On-Call Providers.
| Coding for Administering Drugs in a Method II Critical Access Hospital.
| Coding for Low Osmolar Contrast Material.
| Coding for Administration of Other Drugs and Biologicals.
804 | January 2006 Update of the Hospital Outpatient Prospective Payment System:
| Summary of Payment Policy Changes, Outpatient Prospective Payment System Pricer Logic Changes, and Instructions for Updating the Outpatient Provider Specific File.
805 | Annual Update to the Therapy Code List.
| Healthcare Common Procedure Coding System Coding Requirement.
806 | Termination of Healthcare Common Procedure Coding System Codes Payable During the Transition to the Ambulance Fee Schedule.
807 | Revision to IOM 100-4, Chapter 12, Sections 90.4.1.1 and 90.4.2.
| Carrier Web Pages.
| Health Professional Shortage Area Designations.
808 | Nursing Facility Services (Codes 99304—99318).
809 | Update to Payment Rates for Religious Nonmedical Health Care Institution Services Furnished in the Home, Calendar Year 2006.
810 | Issued to a specific audience, not posted to Internet/Intranet due to Confidentiality of Instruction.
811 | Teaching Physician Services.
| Payment for Physician Services in Teaching Settings Under the Medicare Physician Fee Schedule.
| Evaluation and Management Services.
| Surgical Procedures.
| Psychiatry.
| Time-Based Codes.
| Miscellaneous.
| Assistants at Surgery in Teaching Hospitals.
812 | Medicare Payment for Pre-Administration-Related Services Associated With Intravenous Immune Globulin Administration.
813 | Instructions for the Payment of Health Professional Shortage Area and Physician Scarcity Area Bonuses When the Place of Service is “Home.”
814 | Claim Status Category Code and Claim Status Code Update.
815 | Healthcare Provider Taxonomy Codes Update.
816 | Coverage and Billing for Ultrasound Stimulation for Nonunion Fracture Healing.
| Durable Medical Equipment Regional Carrier Billing Instructions.
817 | Update to the Inpatient Provider Specific File and the Outpatient Provider Specific File to Retain Provider Information.
| Outpatient Provider Specific File.
818 | Smoking and Tobacco-Use Cessation Counseling Services: Common Working File Inquiry for Providers.
| Common Working File Inquiry.
819 | Modification to Quarterly Refund Modifier Edit for Automatic Implantable Cardiac Defibrillator Services.
820 | Sites of Service Revenue Codes for Rural Health Clinics and Federally Qualified Health Centers.
| General Billing Requirements.
821 | Billing and Payment of Certain Colorectal Cancer Screenings for Non-Patients.
| Type of Bill 14X.
| Payment.
| Billing Requirements for Claims Submitted to Fiscal Intermediaries.
822 | Update of Radiopharmaceutical Imaging Agents Healthcare Common Procedure.
| Coding System Codes Applicable to Positron Emission Tomography.
| Tracer Codes Required for Positron Emission Tomography Scans.
823 | New Temporary Code for Battery for Power Mobility Devices.
| Description of Healthcare Common Procedure Coding System.
824 | Quarterly Update to Correct Coding Initiative Edits, V12.1, Effective April 1, 2006.
825 | System Edits for Respiratory Assist Devices with Bi-Level Capability and a Back-Up Rate.
826 | April Quarterly Update to the 2006 Annual Update of Healthcare Common Procedure Coding System Codes Used for Skilled Nursing Facility Consolidated Billing Enforcement.
827 | Use of 12X Type of Bill for Billing Screening Mammography, Screening Pelvic Examinations, and Screening Pap Smears.
| Billing Requirements—Fiscal Intermediary Claims.
| Rural Health Center/Federally Qualified Health Center Claims With Dates of Service on or After January 1, 2002.
| Type of Bill and Revenue Codes for Form CMS-1450.
| Revenue Code and Healthcare Common Procedure Coding System Codes for Billing.
828 | Mammography Facility Certification File—Updated Procedures and Content Mammography Quality Standards Act.
| Mammography Quality Standards Act File.
829 | Modification of Roster Billing for Mass Immunizers Billing for Inpatient Part B Services (Type of Bills 12X and 22X).
| Claims Submitted to Intermediaries for Mass Immunizations of Influenza and Pneumococcal Pneumonia Vaccine.
830 | Denial of Claims Not Timely Filed.
| Time Limitations for Filing Provider Claims to Fiscal Intermediaries and Carriers.
| Determination of Untimely Filing and Resulting Actions.
| Time Limitations for Filing Part B Reasonable Charge and Fee Schedule Claims.
| Time Limit for Filing.
831 | Shared Systems Medicare Secondary Payer Balancing Edit and Administrative Simplification Compliance Act Enforcement Update.
| Crossover Claim Requirements.
| Enforcement.
832 | This Transmittal is rescinded and replaced by Transmittal 868.
833 | Medicare Remit Easy Print Enhancements, and Clarification of Check Issue/Electronic Funds Transfer Effective Date.
834 | Revision to Health Professional Shortage Area and Physician Scarcity Area Bonus Billing for Some Globally Billed Services.
| Services Eligible for Health Professional Shortage Act and Physician Scarcity Bonus Payment.
835 | New Temporary Codes for Adjustable Wheelchair Cushions.
836 | This Transmittal is rescinded and replaced by Transmittal 843.
837 | Coordination of Benefits Agreement Full Claim File Repair Process.
| Coordination of Benefits Agreement Detailed Error Report Notification Process.
| Coordination of Benefits Agreement Full Claim File Repair Process.
838 | Corrections to Common Working File Editing of Home Health Prospective Payment System Claims Regarding Non-Covered Episodes and Prior Inpatient Stays and Fiscal Intermediary Shared System Implementation of 2006 Therapy Code Update.
839 | This Transmittal is rescinded and replaced by Transmittal 866.
840 | This Transmittal is rescinded and replaced by Transmittal 882.
841 | MCS Screen Expansion for the Prescription Order Number for the Competitive Acquisition Program for Part B Drugs to be Developed Over the July 2006 and October 2006 Release With Final Implementation on October 2, 2006.
842 | Issued to a specific audience, not posted to Internet/Intranet due to Confidentiality of Instruction.
843 | Inpatient Admission Followed by Discharge or Death Prior to Room Assignment.
| Charges to Beneficiaries for Part A Services.
844 | This Transmittal is rescinded and replaced by Transmittal 890.
845 | National Council for Prescription Drug Program Coordination of Benefits Workaround Instructions.
846 | New Skilled Nursing Facility Consolidated Billing Web Site Address.
| Services Beyond the Scope of the Part A Skilled Nursing Facility Benefit.
| Skilled Nursing Facility Consolidated Billing Annual Update Process for Fiscal Intermediaries.
| Edit for Therapy Services Separately Payable When Furnished by a Physician.
| Annual Update Process.
| Billing for Medical and Other Health Services.
| Carrier Claims Processing for Consolidated Billing for Physician and Non-Physician Practitioner Services Rendered to Beneficiaries in a Non-Covered Skilled Nursing Facility Stay.
847 | Hold on Medicare Payments.
848 | Issued to a specific audience, not posted to Internet/Intranet due to Confidentiality of Instruction.
849 | Update to the End-stage Renal Disease Composite Payment Rates.
| Drug Payment Amounts for Facilities.
850 | Change Payment Floor Date for Paper Claims.
| Payment Floor Standards.
851 | Revisions to Instructions for Contractors Other Than the Religious Nonmedical Health Care Institutions Specialty Contractor Regarding Claims for Beneficiaries With Religious Nonmedical Health Care Institutions Election.
| Religious Nonmedical Health Care Institution Admission.
| Designated Fiscal Intermediaries and Carriers.
| Billing and Processing Instructions for Religious Nonmedical Health Care Institutions Claims.
| Religious Nonmedical Health Care Institutions Election Process.
| Requirement for Religious Nonmedical Health Care Institutions Election.
| Revocation of Religious Nonmedical Health Care Institutions Election.
| Completion of the Uniform (Institutional Provider) Bill (Form CMS 1450) Notice of Election for Religious Nonmedical Health Care Institutions.
| Common Working File Processing of Elections, Revocations and Cancelled Elections.
| Billing Process for Religious Nonmedical Health Care Institutions Services.
| When to Bill for Religious Nonmedical Health Care Institutions Services.
| Required Data Elements on Claims for Religious Nonmedical Health Care Institution Services.
| Religious Nonmedical Health Care Institutions Claims Processing by Religious Nonmedical Health Care Institutions Specialty Contractor.
| Informing Beneficiaries of the Results of Religious Nonmedical Health Care Institutions Claims Processing.
| Billing and Payment of Religious Nonmedical Health Care Institutions Items and Services Furnished in the Home.
| Processing Claims For Beneficiaries With Religious Nonmedical Health Care Institutions Elections by Contractors Other Than the Religious Nonmedical Health Care Institutions Specialty Intermediary.
| Recording Determinations of Excepted/Nonexcepted Care on Claim Records Informing Beneficiaries of the Results of Excepted/Nonexcepted Care Determinations by the Non-specialty Contractor.
852 | Ambulance Fee Schedule—CY 2006 Update: Correction to CR 4061 Ambulance Inflation Factor.
853 | This Transmittal is rescinded and replaced by Transmittal 855.
854 | Medicare Summary Notice Format Changes for Durable Medical Equipment.
| Medicare Administrative Contracts Transition.
| Title Section of the Medicare Summary Notice.
| Appeals Section.
855 | Therapy Caps Exception Process.
| The Financial Limitation.
856 | January 2006 Quarterly Average Sales Price Medicare Part B Drug Pricing File, Effective January 1, 2006, and Revisions to April 2005, July 2005, and October 2005 Quarterly Average Sales Price Medicare Part B Drug Pricing Files.
857 | Medicare Part B Drug Pricing Update—Payment Limit for J7620.
858 | This Transmittal is rescinded and replaced by Transmittal 873.
859 | Remittance Advice Remark Code and Claim Adjustment Reason Code Update.
860 | Remittance Advice Remark Code and Claim Adjustment Reason Code Update.
861 | Sunset of the Policies for Provider Nominations for an Intermediary and the Provider Requests for a Change of Intermediary—Revisions to Publication 100-04, Chapter 1, Section 20.
| Provider Assignment to a Fiscal Intermediary.
| Provider Change of Ownership.
| Multi-State Provider Chains Billing Fiscal Intermediaries.
| CMS No Longer Accepts Provider Requests to Change Their Fiscal Intermediary.
| Solicitation of a Provider to Secure a Change of Fiscal Intermediary.
| Communications.
862 | Appeals of Claims Decisions: Administrative Law Judge; Departmental Appeals Board; U.S. District Court Review.
| Administrative Law Judge—The Third Level of Appeal.
| Right to an Administrative Law Judge Hearing.
| Requests for an Administrative Law Judge Hearing.
| Forwarding Request to Department of Health & Human Services/Office of Medicare Hearings and Appeals.
| Review and Effectuation of Administrative Law Judge Decisions.
| Effectuation Time Limits & Responsibilities.
| Duplicate Administrative Law Judge Decisions.
| Payment of Interest on Administrative Law Judge Decisions.
| Departmental Appeals Board—The Fourth Level of Appeal.
| Recommending Agency Referral of Administrative Law Judge Decisions or Dismissals.
| Effectuation of Departmental Appeal Board Orders and Decisions.
| Requests for Case Files.
| Payment of Interest on Departmental Appeals Board Decisions.
| U.S. District Court Review—The Fifth Level of Appeal.
| Requests for U.S District Court Review by a Party.
| Effectuation of U.S District Court Decisions.
| Payment of Interest of U.S. District Court Decisions.
863 | Update to Chapter 20, “Billing for Oxygen and Oxygen Equipment,” Section 130.6.
| Billing for Oxygen and Oxygen Equipment.
864 | Changes to the Laboratory National Coverage Determination Edit Software for April 2006.
865 | Health Common Procedure Coding System Codes Subject to and Exclude from Clinical Laboratory Improvement Amendments Edits.
| Verifying Clinical Laboratory Improvement Act Certification.
| Certificate for Physician-Performed Microscopy Procedures.
| Clinical Laboratory Improvement Act License or Licensure Exemption.
866 | Additional Requirements for the Competitive Acquisition Program for Part B Drugs.
| Duplicates.
| General Information Section.
| Duplicados.
| Seccion De Informacion General.
| The Competitive Acquisition Program of Outpatient Drugs and Biologicals Under Part B.
| Physician Election and Information Transfer Between Carriers and the Designated Carrier for Competitive Acquisition Program Claims.
| Physician Information for the Designated Carrier.
| Quarterly Updates.
| Format for Data.
| Physician Information for the Vendors.
| Claims Processing Instructions for Competitive Acquisition Program Claims for The Local Carrier.
| Competitive Acquisition Program Required Modifiers.
| Submitting the Administration/Evaluation and Management Services and the No Pay Service Lines.
| Submitting the Prescription Order Numbers and No Pay Modifiers.
| Competitive Acquisition Program Claims Submitted With Only the No Pay Line.
| Only Competitive Acquisition Program Related Services on a Claim.
| Use of the Restocking Modifier.
| Use of the Furnish as Written Modifier.
| Monitoring of Claims Submitted With the J2 and/or J3 Modifiers.
| Claims Submitted for Only Drugs Listed on the Approved CAP Vendors Drug List.
| Application of Local Medical Review Policies.
| Claims Processing Instructions for the Designated Carrier.
| Creation of Internal Vendor Provider Files.
| Submission of Paper Claims by Vendors.
| Submission of Claims from Vendors With the J1 No Pay Modifier.
| Submission of Claims from Vendors Without a Provider Primary Identifier for The Ordering Physician.
| New Medicare Summary Notice Message To Be Included on All Vendor Claims Additional Medical Information.
| Competitive Acquisition Program Fee Schedule.
| Matching the Physician Claim to the Vendor Claim.
| Denials Due to Medical Necessity.
| Denials For Reasons Other Than Medical Necessity.
| Changes to Pay/Process Indicators.
| Post-Payment Overpayment Recovery Actions.
| Pending and Recycling the Claim When All Lines Do Not Have a Match.
| Creation of a Weekly Report for Claims That Have Pended More Than 90 Days and Subsequent Action.
| Coordination of Benefits.
| National Claims History.
| Adding New Drugs to Competitive Acquisition Program.
| Updating Fee Schedule for New Drugs in Competitive Acquisition Program.
| Non-Participating Physicians Who Elect the Competitive Acquisition Program.
| Discarded Drugs and Biologicals.
| Carrier Specific Requirements for Certain Specialties/Services.
867 | Elimination of the Durable Medical Equipment Regional Carrier Information Form.
| Billing Drugs Electronically—National Council of Prescription Drug Programs.
| Certificate of Medical Necessity.
868 | Payment of Same Day Transfer Claims Under the Inpatient Psychiatric Facility Prospective Payment System.
869 | Installation of Pricing Software Containing the Customer Information Control System Formatting Update.
870 | Type of Service Corrections.
871 | 2005 Revised American National Standards Institute X12N 837 Professional Health Care Claim Companion Document.
872 | New Waived Tests.
873 | Increase Remittance File Retention.
874 | Instructions for Downloading the Medicare Zip Code File.
875 | Maintenance and Update of the Temporary Hook Created to Hold Out Patient Prospective Payment System Claims That Include Certain Drug Healthcare Common Procedure Coding System Codes.
876 | April 2006 Quarterly Average Sales Price Medicare Part B Drug Pricing File and Revisions to January 2005, April 2005, July 2005, October 2005, and January 2006 Quarterly Average Sales Price Medicare Part B Drug Pricing Files.
877 | Changes in Transitional Outpatient Payments for Rural Sole Community Hospitals and Small Rural Hospitals for 2006.
878 | Healthcare Integrated General Ledger Accounting System and 835 Implementation Guide Provider Adjustment Code Mapping and Standard Paper Remittance Advice Changes.
879 | Announcement of Federally Qualified Health Centers Designation As Urban and Rural—Skilled Nursing Facility Consolidated Billing As It Applies to FQHC Services Furnished to Swing-Bed Patients.
880 | April Quarterly Update for 2006 Durable Medical Equipment, Prosthetics, Orthotics, and Supplies Fee Schedule.
881 | Outpatient Prospective Payment System Hospital Emergency Room Services Exceeding 24 Hours.
| Accurate Reporting of Surgical and Medical Procedures and Services.
882 | Hospital Billing for Take-Home Drugs.
| Claims Processing Jurisdiction for Oral Anti-Emetic Drugs.
| Billing and Payment Instructions for Fiscal Intermediaries.
883 | Claims Processing Requirements for Medicare Beneficiaries in State or Local Custody Under a Penal Authority—Manualization.
884 | Issued to a specific audience, not posted to Internet/Intranet due to Confidentiality of Instruction.
885 | Suppression of Standard Paper Remittance Advice to Providers and Suppliers Also Receiving Electronic Remittance Advice for 45 Days or More.
| Medicare Remit Easy Print Software for Carrier and Durable Medical Equipment Regional Carrier Provider/Supplier Use.
886 | April 2006 Update to the Medicare Outpatient Code Editor Version 21.2 for Bills From Hospitals That Are Not Paid Under The Outpatient Prospective Payment System.
887 | Correction to Change Request 4282—Application of Temporary 5 Percent Payment Increase for Home Health Services Furnished in a Rural Area for One Year Under the Home Health Prospective Payment System.
888 | April 2006 Outpatient Prospective Payment System Code Editor Specifications Version 7.1.
889 | This Transmittal is rescinded and replaced by Transmittal 897.
890 | Guidelines for Payment of Vaccine (Pneumococcal Pneumonia Virus, Influenza Virus, and Hepatitis B Virus) Administration.
| Healthcare Common Procedure Coding System and Diagnosis Codes.
| Fiscal Intermediary Payment for Pneumococcal Pneumonia Virus, Influenza Virus, and Hepatitis B Virus Vaccines and Their Administration.
891 | Redesignate HCPCS Codes J8597 and E1239 to Their Proper Common Working File Category.
892 | Eligibility Transaction URL update.
| Eligiblity Extranet Workflow.
893 | 2006 Juridiction List.
894 | Microvolt T-Wave Alternans Diagnostic Testing.
895 | Expansion of Glaucoma Screening Services.
| Remittance Advice Notices.
| Medicare Summary Notice Messages.
896 | April 2006 Update of the Hospital Outpatient Prospective Payment System: Summary of Payment Policy Changes.
897 | April Update to the 2006 Medicare Physician Fee Schedule Database.
898 | External Counterpulsation Therapy.
| Billing and Payment Requirements.
| Special Intermediary Billing and Payment Requirements.
899 | Revised Health Insurance Claim Form CMS-1500.
| Items 14-33—Provider of Service or Supplier Information.
| Patient's Request for Medicare Payment Form CMS-1490S.
| Printing Standards and Print File Specifications Form CMS-1500.
Medicare Secondary Payer (CMS Pub. 100-05)
47 | Medicare Secondary Payer Debt Collection and Referral Updates.
| Debt and Debtor Definitions.
| Debt Selection and Verification.
| Debt Selection Criteria.
| Debts Excluded From Referral.
| Monitoring Debts Excluded From the Debt Collection Improvement Act Referral Process.
| Validation of Possible Eligible Debts for Referral.
| Issuance of the “Intent to Refer” Letter and Inquiries/Replies Related to Debt Collection Improvement Act Activities.
| Issuance of the “Intent to Refer” to Treasury Letter.
| Responding to Correspondence as a Result of the Issuance of the Intent to Refer Letter.
| Debt Collection System and Debt Collection System Entry.
| Debt Collection System.
| Debt Collection System Entry of Delinquent Debt.
| Contractor Actions Subsequent to Debt Collection System Entry.
| Steps Contractors Shall Take Upon Knowledge or Receipt of Certain Information.
| Debt Collection Improvement Act Treasury Collection (Placeholder) Financial Reporting.
48 | Request for Claims Detail in Support of Medicare's Debt.
Medicare Financial Management (CMS Pub. 100-06)
88 | Clarification to IOM 100-06, Sections 290.7 and 290.8.
| Completing Physician Scarcity Area Quarterly Report, Form CMS-1565F, CROWD Report 6.
| Checking Reports.
89 | Mandated Use of Autoload Program in System Tracking for Audit and Reimbursement.
90 | Recurring Update Notification for the Notice of New Interest Rate for Medicare Overpayments and Underpayments.
91 | Clarification of Instructions in Pub. 100-6, Chapter 5 Financial Reporting, Section 310.4—Line 4(a) through (e), Reclassified CNC Debt (Principal and Interest).
92 | Clarification of the Form CMS-1522 Monthly Contractor Financial Report Procedures for the Reconciliation of Total Funds Expended for Fiscal Intermediary Shared System Medicare Contractors Used in the Preparation of Form CMS-1522 Monthly Contractor Financial Report.
| Identification and Summarization of Detailed Claims Data Records For Use in the Financial Reconciliation of Total Funds Expended to Fiscal Intermediary Shared System Reports.
| Using the Electronic Spreadsheet to Complete the Reconciliation of the Detailed Claims Data File to Fiscal Intermediary Shared System Reports.
| Electronic Spreadsheet Input Schedule.
| Total Funds Expended (Net Disbursements and Adjustments to Net Disbursements).
| Reconciliation of Detailed Claims Data File to Fiscal Intermediary Shared Systems System Reports.
| Reconciliation of Non-Physician Incentive Plan Payments on Fiscal Intermediary Shared Systems System Reports.
| Reconciliation of Interest Received and Paid on Fiscal Intermediary Shared Systems System Reports.
| Categorization of Total Funds Expended by Category.
Medicare State Operations Manual (CMS Pub. 100-07)
16 | Revisions to Chapter 2, “The Certification Process,” Appendix E—“Providers of Outpatient Physical Therapy or Outpatient Speech Language Pathology Services,” and Appendix K—“Comprehensive Outpatient Rehabilitation Facilities”.
17 | Revisions to Chapter 2, The Certification Process.
18 | Complete Revision to Chapter 5, “Complaint Procedures.”
Medicare Program Integrity (CMS Pub. 100-08)
135 | Changes to the GTL Titles.
| Prepayment Edits.
| Location of Postpayment Reviews.
| Notification of Provider(s) or Supplier(s) and Beneficiaries of the Postpayment Review Results.
| Evaluation of the Effectiveness of Postpayment Review and Next Steps.
| Postpayment Files.
| Overpayment Procedures.
| Fraud or Willful Misrepresentation Exists—Fraud Suspensions.
| Overpayment Exists But the Amount Is Not Determined—General Suspensions.
| Payments to be Made May Not be Correct—General Suspensions.
| Provider Fails to Furnish Records and Other Requested Information—General Suspensions.
| CMS Approval.
| Prior Notice Versus Concurrent Notice.
| Content of Notice.
| Shortening the Notice Period for Cause.
| Mailing the Notice to the Provider.
| Opportunity for Rebuttal.
| Claims Review.
| Duration of Suspension of Payment.
| Removing the Suspension.
| Durable Medical Equipment Regional Carriers and Durable Medical Equipment Regional Carrier Program Safeguard Contractors.
| Other Multi-Regional Contractors.
| Informational Copies to Primary Government Task Leaders, Associate Government.
| Task Leaders, Subject Matter Experts, or CMS Regional Office.
| Notification of Provider or Supplier of the Review and Selection of the Review Site.
| Sampling Methodology Overturned.
136 | Policy Changes to Program Integrity Manual.
| Contractor Medical Director.
137 | Provider Enrollment Workload and Timeliness Reports.
| Tracking Requirements.
138 | This Transmittal is rescinded and replaced by Transmittal 142.
139 | This Transmittal is rescinded and replaced by Transmittal 140.
140 | Therapy Caps Exception Process.
| Exception from the Uniform Dollar Limitation.
| Prepay Complex Review Workload and Cost.
141 | Modification to the Unique Physician Identification Number Process.
| National Registry of Physicians/Health Care Practitioners/Group Practices.
| Ongoing Data Collection on Physicians/Health Care Practitioners/Group Practices Applications.
| Physicians/Health Care Practitioners/Group Practices Record—Required Information and Format.
| Maintaining Physician/Health Care Practitioner/Group Practices Memberships.
| Validation of Physician/Health Care Practitioner/Group Practice Credentials, Certification, Sanction, and License Information for Prior Practices.
| Unique Physician Identification Number Cross-Referral Requirement.
| Maintenance of the Registry.
| General.
| Add Records.
| Adding Physician/Health Care Practitioner/Group Practice Setting.
| Update Records.
| Rejections.
| Exceptions.
| Batching Procedures.
| Privacy Act Requirements.
| Release of Unique Physician Identification Numbers.
| Release of Unique Physician Identification Numbers to Physicians, Nurse Practitioners, Clinical Nurse Specialists, and Physician Assistants.
| Automatic Notifications.
| Unique Physician Identification Number Directory.
| Unique Physician Identification Numbers for Ordering/Referring Physicians.
| Common Working File Edits and Claims Processing Requirements.
| Surrogate Unique Physician Identification Numbers.
| Carrier Registry Telecommunications Interface.
| AT&T Global Network Service/Compact Disc.
| File Transfer.
| Registry Customer Information Control System.
| T-Mail.
142 | New Durable Medical Equipment Prosthetic, Orthotics & Supplies Certificates of Medical Necessity and Durable Medical Equipment Medicare Administrative Contractors Information Forms for Claims Processing.
| Documentation Specifications for Areas Selected for Prepayment or Postpayment Medical Review.
| Home Use of Durable Medical Equipment.
| Rules Concerning Prescriptions (Orders).
| Physician Orders.
| Verbal Orders.
| Written Orders.
| Written Orders Prior to Delivery.
| Requirement of New Orders.
| Certificates of Medical Necessity and Durable Medical Equipment Medicare Administrative Contractor Information Forms.
| Completing a Certificate of Medical Necessity or Durable Medical Equipment Medicare Administrative Contractors Information Form.
| Cover Letters for Certificates of Medical Necessity.
| Acceptability of Faxed Orders and Facsimile or Electronic Certificates of Medical Necessity and Durable Medical Equipment Administrative Contractors Information Forms.
| Durable Medical Equipment Medicare Administrative Contractors and Durable Medical Equipment Program Safeguard Contractor's Authority to Initiate an Overpayment or Civil Monetary Penalty When Invalid Certificates of Medical Necessity are Identified.
| Nurse Practitioner or Clinical Nurse Specialist Rules Concerning Orders and Certificates of Medical Necessity.
| Physician Assistant Rules Concerning Orders and Certificates of Medical Necessity.
| Documentation in the Patient's Medical Record.
| Supplier Documentation.
| Evidence of Medical Necessity.
| Evidence of Medical Necessity for the Oxygen Certificates of Medical Necessity.
| Evidence of Medical Necessity: Wheelchair and Power-Operated Vehicle Claims.
| Period of Medical Necessity—Home Dialysis Equipment.
| Safeguards in Making Monthly Payments.
| Guidance on Safeguards in Making Monthly Payments.
| Pick-up slips.
| Incurred Expenses for Durable Medical Equipment and Orthotic and Prosthetic Devices.
| Patient Equipment Payments Exceed Deductible and Coinsurance on Assigned Claims.
| Definitions of Customized Durable Medical Equipment.
| Advance Determination of Medicare Coverage of Customized Durable Medical Equipment.
| Items Eligible for Advance Determination of Medicare Coverage.
| Instructions for Submitting Advance Determination of Medicare Coverage Requests.
| Instructions for Processing Advance Determination of Medicare Coverage Requests.
| Affirmative Advance Determination of Medicare Coverage Decisions.
| Negative Advance Determination of Medicare Coverage Decisions.
| Durable Medical Equipment Program Safeguard Contractor Tracking.
143 | Demand Letters.
144 | Various Benefit Integrity Revisions.
| The Medicare Fraud Program.
| Requests for Information From Outside Organizations.
| Closing Cases.
| Affiliated Contractor and Program Safeguard Contractor Coordination on Voluntary Refunds.
| Immediate Advisements to the Office of the Inspector General/Office of Investigations.
145 | Eliminate the Use of Surrogate Unique Physician Identification Numbers (OTH000) on Medicare Claims.
Medicare Contractor Beneficiary and Provider Communications (CMS Pub. 100-09)
00 | None.
Medicare Managed Care (CMS Pub. 100-16)
78 | Revisions to Chapter 5, “Quality Improvement.”
79 | Change in Managed Care Manual Chapter 11, Medicare Advantage Application Procedures and Contract Requirements.
80 | Revisions to Chapter 13, Medicare Managed Care Beneficiary Grievances, Organization Determinations, and Appeals Applicable to Medicare Advantage Plans, Cost Plans, and Health Care Prepayment Plans (collectively referred to as Medicare health plans).
Medicare Business Partners Systems Security (CMS Pub. 100-17)
07 | Business Partner Systems Security Manual.
Demonstrations (CMS Pub. 100-19)
37 | Revisions to CR 3816—Low Vision Rehabilitation Demonstration.
38 | Issued to a specific audience, not posted to Internet/Intranet due to Confidentiality of Instruction.
39 | This Transmittal is rescinded and replaced by Transmittal 41.
40 | Amendments to Section 651 Chiropractic Services Demonstration—Changes to CPT 98943 rate published in CR 4225 Due to Passage of the Deficit Reduction Act, and revisions to CPT codes for 2006.
41 | 2006 Oncology Demonstration Project—Inclusion of Gynecological Oncology (Supplement to CR 4219).
42 | 2006 Oncology Demonstration Project.
43 | Physician Voluntary Reporting Program (PVRP) Specification (Correction to CR 4183).
One Time Notification (CMS Pub. 100-20)
200 | Mandatory Transition to New Registry That Satisfies Medicare Data Reporting Requirements for Implantable Cardioverter Defibrilators.
201 | Calculation of the Interim Payment of Indirect Medical Education Through the Inpatient Prospective Payment System Pricer for Hospitals That Received an Increase to their Full-time Equivalent Resident Caps Under Section 422 of the Medicare Modernization Act, Pub. L. 108-173.
202 | Issued to a specific audience, not posted to Internet/Intranet due to Sensitivity of Instruction.
203 | Revision for Prospective Payment System Payment for Blood Clotting Factor Administered to Hemophilia Inpatients.
204 | Stage 1 Use and Editing of National Provider Identifier Numbers Received in Electronic Data Interchange.
205 | Beneficiary Change of Address.
206 | Modifications/Additions to CR 3730, Frequent Hemodialysis Network Payments for Approved Clinical Trial Costs.
207 | New 2006 Payment Rate for Services Paid Under the Medicare Physician Fee Schedule.
208 | Analysis of Systems Changes Needed to Generate Unsolicited Responses to the Veterans Administration.
209 | Q4080—Change in Healthcare Common Procedure Coding System Code Descriptor.
210 | Creation of a Second Participation Enrollment Period for 2006.
211 | Temporary 5 Percent Payment Increase for Home Health Services Furnished in a Rural Area for One Year Under the Home Health Prospective Payment System, Change of the Home Health Prospective Payment System Calendar Year (CY) 2006 Update from that of 2.8 Percent Update (Home Health Market Basket Update of 3.6 Minus 0.8 Percentage Point) to that of a Zero Percent Update.
212 | Full Replacement of CR 3980, Termination of Existing Crossover Agreements as Trading Partners Transition to the National Coordination of Benefits Agreement Program (CR 3980 is rescinded.).
213 | Issued to a specific audience, not posted to Internet/Intranet due to Sensitivity of Instruction.
214 | Procedures for Preventing Duplicate Crossover File Submissions to the Coordination of Benefits Contractor.
215 | Payment for Power Mobility Device Claims.
216 | Contractor Number Change for Noridian Administrative Services' Idaho and Oregon Part A Workloads.
217 | 2006 Revised American National Standards Institute X12N 837 Institutional Health Care Claim Companion Document.

Addendum IV.—Regulation Documents Published in the Federal Register
[January through March 2006]
Publication date | FR vol. 71 page No. | CFR parts affected | File code | Title of regulation
January 17, 2006 | 2617 | 419 | CMS-1501-CN2 | Medicare Program; Changes to the Hospital Outpatient Prospective Payment System and Calendar Year 2006 Payment Rates; Correction.
January 23, 2006 | 3616 | 412 and 424 | CMS1306-P | Medicare Program, Impatient Psychiatric Facilities Prospective Payment System Payment Update for Rate Year Beginning July 1, 2006 (RY 2007).
January 27, 2006 | 4648 | 412 | CMS-1485-P | Medicare Program; Prospective Payment System for Long-term Care Hospitals RY 2007: Proposed Annual Payment Rate Updates, Policy Changes, and Clarification.
January 27, 2006 | 4591 |  | CMS-1318-N | Medicare Program; Meeting of the Practicing Physicians Advisory Council, March 6, 2006.
January 27, 2006 | 4590 |  | CMS-1328-N | Medicare Program; February 15, 2006 Town Hall Meeting on the Practice Expense Methodology Including the Proposal From the Physician Fee Schedule Proposed Rule for Calendar Year 2006.
January 27, 2006 | 4589 |  | CMS-3162-N | Medicare Program; Meeting of the Medicare Coverage Advisory Committee—March 30, 2006.
January 27, 2006 | 4586 |  | CMS-3144-FN | Medicare Program; Approval of Adjustment in Payment Amounts for New Technology Intraocular Lenses Furnished by Ambulatory Surgical Centers.
January 27, 2006 | 4584 |  | CMS-2228-PN | Medicare and Medicaid Programs; Application by the TUV Healthcare Specialists for Deeming Authority for Hospitals.
January 27, 2006 | 4518 | 414 | CMS-1167-F | Medicare Program; Payment for Respiratory Assist Devices With Bi-Level Capability and a Backup Rate.
February 10, 2006 | 6991 | 413 | CMS-1126-RCN | Medicare Program; Provider Bad Debt Payment; Extension of Timeline for Publication of Final Rule.
February 24, 2006 | 9564 |  | CMS-2227-FN | Medicare and Medicaid Programs; Approval of Deeming Authority of the Accreditation Commission for Healthcare (ACHC) for Home Health Agencies.
February 24, 2006 | 9562 |  | CMS-1332-NC | Medicare and Medicaid Programs; Announcement of an Application From a Hospital Requesting Waiver From Its Designated Organ Procurement Service Area.
February 24, 2006 | 9561 |  | CMS-4115-N | Medicare Program; Request for Nominations for the Advisory Panel on Medicare Education.
February 24, 2006 | 9505 | 412 and 413 | CMS-1306-CN | Medicare Program; Inpatient Psychiatric Facilities Prospective Payment System Payment Update for Rate Year Beginning July 1, 2006 (RY 2007); Correction and Extension of Comment Period.
February 24, 2006 | 9466 | 411 and 489 | CMS-6272-IFC | Medicare Program; Medicare Secondary Payer Amendments.
February 24, 2006 | 9458 | 405, 410, 411, 413, 414, 424 and 426 | CMS-1502-F2 and CMS-1325-F | Medicare Program; Revisions to Payment Policies Under the Physician Fee Schedule for Calendar Year 2006 and Certain Provisions Related to the Competitive Acquisition Program of Outpatient Drugs and Biologicals Under Part B; Correcting Amendment.
March 3, 2006 | 11027 | 412 and 413 | CMS-1306-CN | Medicare Program; Inpatient Psychiatric Facilities Prospective Payment Update for Rate Year Beginning July 1, 2006 (RY 2007); Correction and Extension of Comment Period.
March 15, 2006 | 13469 | 405, 410, 411, 413, 414, 424 and 426 | CMS-1502-F2 and CMS-1325-F | Medicare Program; Revisions to Payment Policies Under the Physician Fee Schedule for Calendar Year 2006 and Certain Provisions Related to the Competitive Acquisition Program of Outpatient Drugs and Biologicals Under Part B; Correcting Amendment.
March 24, 2006 | 14924 |  | CMS-1281-N | Medicare Program; Public Meetings in Calendar Year 2006 for All New Public Requests for Revisions to the Healthcare Common Procedure Coding System (HCPCS) Coding and Payment Determinations.
March 24, 2006 | 14922 |  | CMS-4117-PN | Medicare Program; Application for Deeming Authority for Medicare Advantage Health Maintenance Organizations and Local Preferred Provider Organizations Submitted by URAC.
March 24, 2006 | 14903 |  | CMS-9034-N | Medicare and Medicaid Programs; Quarterly Listing of Program Issuances—October Through December 2005.
March 24, 2006 | 14901 |  | CMS-3163-N | Medicare Program; Request for Nominations for Members of the Medicare Coverage Advisory Committee and Notice of Meeting of the Medicare Coverage Advisory Committee—May 18, 2006.
March 24, 2006 | 14900 |  | CMS-1269-N7 | Medicare Program; Emergency Medical Treatment and Labor Act (EMTALA) Technical Advisory Group (TAG): Announcement of a New Member.

Addendum V—National Coverage Determinations

[January Through March 2006]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[January through March 2006]
Title | NCDM section | TN No. | Issue date | Effective date
Cardiac Catheterization Performed in Other Than a Hospital Setting | 20.25 | R46NCD | 1/27/06 | 1/18/06
Tumor Antigen by Immunoassay CA125 to Add Primary Peritoneal Carcinoma | 190.28 | R47NCD | 2/24/06 | 1/1/06
Technical Corrections to the NCD Manual | (*) | R48NCD | 3/17/06 | 3/17/06
Microvolt T-Wave Alternans Diagnostic Testing | 20.30 | R49NCD | 3/24/06 | 3/21/06
External Counterpulsation Therapy | 20.20 | R50NCD | 3/31/06 | 3/20/06
* NA (not available).

Addendum VI—FDA-Approved Category B IDEs

[January Through March 2006]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the first quarter, January through March 2006: G040138, G050054, G050157, G050185, G050189, G050201, G050209, G050212, G050213, G050215, G050219, G050226, G050246, G050248, G050250, G050251, G050253, G050260, G060004, G060005, G060010, G060011, G060014, G060015, G060016, G060018, G060020, G060022, G060023, G060024, G060025, G060027, G060028, G060030, G060031, G060043, G060046, G060047, G060048, and G060051.

Addendum VII—Approval Numbers for Collections of Information

Below we list all approval numbers for collections of information in the referenced sections of CMS regulations in Title 42; Title 45, Subchapter C; and Title 20 of the Code of Federal Regulations, which have been approved by the Office of Management and Budget:

OMB Control Numbers
[Approved CFR Sections in Title 42, Title 45, and Title 20 (Note: Sections in Title 45 are preceded by “45 CFR,” and sections in Title 20 are preceded by “20 CFR”)]
OMB No. | Approved CFR sections
0938-0008 | Part 424, Subpart C.
0938-0022 | 413.20, 413.24, 413.106.
0938-0023 | 424.103.
0938-0025 | 406.28, 407.27.
0938-0027 | 486.100-486.110.
0938-0033 | 405.807.
0938-0034 | 405.821.
0938-0035 | 407.40.
0938-0037 | 413.20, 413.24.
0938-0041 | 408.6, 408.202.
0938-0042 | 410.40, 424.124.
0938-0045 | 405.711.
0938-0046 | 405.2133.
0938-0050 | 413.20, 413.24.
0938-0062 | 431.151, 435.151, 435.1009, 440.220, 440.250, 442.1, 442.10-442.16, 442.30, 442.40, 442.42, 442.100-442.119, 483.400-483.480, 488.332, 488.400, 498.3-498.5.
0938-0065 | 485.701-485.729.
0938-0074 | 491.1-491.11.
0938-0080 | 406.7, 406.13.
0938-0086 | 420.200-420.206, 455.100-455.106.
0938-0101 | 430.30.
0938-0102 | 413.20, 413.24.
0938-0107 | 413.20, 413.24.
0938-0146 | 431.800-431.865.
0938-0147 | 431.800-431.865.
0938-0151 | 493.1-493.2001.
0938-0155 | 405.2470.
0938-0193 | 430.10-430.20, 440.167.
0938-0202 | 413.17, 413.20.
0938-0214 | 411.25, 489.2, 489.20.
0938-0236 | 413.20, 413.24.
0938-0242 | 416.44, 418.100, 482.41, 483.270, 483.470.
0938-0245 | 407.10, 407.11.
0938-0251 | 406.7.
0938-0266 | 416.1-416.150.
0938-0267 | 485.56, 485.58, 485.60, 485.64, 485.66.
0938-0269 | 412.116, 412.632, 413.64, 413.350, 484.245.
0938-0270 | 405.376.
0938-0272 | 440.180, 441.300-441.305.
0938-0273 | 485.701-485.729.
0938-0279 | 424.5.
0938-0287 | 447.31.
0938-0296 | 413.170, 413.184.
0938-0301 | 413.20, 413.24, 415.60.
0938-0302 | 418.22, 418.24, 418.28, 418.56, 418.58, 418.70, 418.74, 418.83, 418.96, 418.100.
0938-0313 | 489.11, 489.20.
0938-0328 | 482.12, 482.13, 482.21, 482.22, 482.27, 482.30, 482.41, 482.43, 482.45, 482.53, 482.56, 482.57, 482.60, 482.61, 482.62, 482.66, 485.618, 485.631.
0938-0334 | 491.9, 491.10.
0938-0338 | 486.104, 486.106, 486.110.
0938-0354 | 441.50.
0938-0355 | 442.30, 488.26.
0938-0358 | 488.26.
0938-0359 | 412.40-412.52.
0938-0360 | 488.60.
0938-0365 | 484.10, 484.12, 484.14, 484.16, 484.18, , 484.36, 484.48, 484.52.
0938-0372 | 414.330.
0938-0378 | 482.60-482.62.
0938-0379 | 442.30, 488.26.
0938-0382 | 442.30, 488.26.
0938-0386 | 405.2100-405.2171.
0938-0391 | 488.18, 488.26, 488.28.
0938-0426 | 480.104, 480.105, 480.116, 480.134.
0938-0429 | 447.53.
0938-0443 | 478.18, 478.34, 478.36, 478.42.
0938-0444 | 1004.40, 1004.50, 1004.60, 1004.70.
0938-0445 | 412.44, 412.46, 431.630, 476.71, 476.74, 476.78.
0938-0447 | 405.2133.
0938-0448 | 405.2133, 45 CFR 5, 5b; 20 CFR Parts 401, 422E.
0938-0449 | 440.180, 441.300-441.310.
0938-0454 | 424.20.
0938-0456 | 412.105.
0938-0463 | 413.20, 413.24, 413.106.
0938-0467 | 431.17, 431.306, 435.910, 435.920, 435.94,-435.960.
0938-0469 | 417.126, 422.502, 422.516.
0938-0470 | 417.143, 422.6.
0938-0477 | 412.92.
0938-0484 | 424.123.
0938-0501 | 406.15.
0938-0502 | 433.138.
0938-0512 | 486.304, 486.306, 486.307.
0938-0526 | 475.102, 475.103, 475.104, 475.105, 475.106.
0938-0534 | 410.38, 424.5.
0938-0544 | 493.1-493.2001.
0938-0564 | 411.32.
0938-0565 | 411.20-411.206.
0938-0566 | 411.404, 411.406, 411.408.
0938-0573 | 412.256.
0938-0578 | 447.534.
0938-0581 | 493.1-493.2001.
0938-0599 | 493.1-493.2001.
0938-0600 | 405.371, 405.378, 413.20.
0938-0610 | 417.436, 417.801, 422.128, 430.12, 431.20, 431.107, 483.10, 484.10, 489.102.
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299.
0938-0618 | 433.68, 433.74, 447.272.
0938-0653 | 493.1771, 493.1773, 493.1777.
0938-0657 | 405.2110, 405.2112.
0938-0658 | 405.2110, 405.2112.
0938-0667 | 482.12, 488.18, 489.20, 489.24.
0938-0686 | 493.551-493.557.
0938-0688 | 486.301-486.325.
0938-0691 | 412.106.
0938-0692 | 466.78, 489.20, 489.27.
0938-0701 | 422.152.
0938-0702 | 45 CFR 146.111, 146.115, 146.117, 146.150, 146.152, 146.160, 146.180.
0938-0703 | 45 CFR 148.120, 148.122, 148.124, 148.126, 148.128.
0938-0714 | 411.370-411.389.
0938-0717 | 424.57.
0938-0721 | 410.33.
0938-0723 | 421.300-421.316.
0938-0730 | 405.410, 405.430, 405.435, 405.440, 405.445, 405.455, 410.61, 415.110, 424.24.
0938-0732 | 417.126, 417.470.
0938-0734 | 45 CFR 5b
0938-0739 | 413.337, 413.343, 424.32, 483.20.
0938-0749 | 424.57.
0938-0753 | 422.000-422.700.
0938-0754 | 441.151, 441.152.
0938-0758 | 413.20, 413.24.
0938-0760 | 484.55, 484.205, 484.245, 484.250.
0938-0761 | 484.11, 484.20.
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350.
0938-0770 | 410.2.
0938-0778 | 422.111, 422.564.
0938-0779 | 417.126, 417.470, 422.64, 422.210.
0938-0781 | 411.404, 484.10.
0938-0786 | 438.352, 438.360, 438.362, 438.364.
0938-0790 | 460.12-460.210.
0938-0792 | 491.8, 491.11.
0938-0796 | 422.64.
0938-0798 | 413.24, 413.65, 419.42.
0938-0802 | 419.43.
0938-0818 | 410.141-410.146, 414.63.
0938-0829 | 422.568.
0938-0832 | Parts 489 and 491.
0938-0833 | 483.350-483.376.
0938-0841 | 431.636, 457.50, 457.60, 457.70, 457.340, 457.350, 457.431, 457.440, 457.525, 457.560, 457.570, 457.740, 457.750, 457.810, 457.940, 457.945, 457.965, 457.985, 457.1005, 457.1015, 457.1180.
0938-0842 | 412.23, 412.604, 412.606, 412.608, 412.610, 412.614, 412.618, 412.626, 413.64.
0938-0846 | 411.352-411.361.
0938-0857 | Part 419.
0938-0860 | Part 419.
0938-0866 | 45 CFR Part 162.
0938-0872 | 413.337, 483.20.
0938-0873 | 422.152.
0938-0874 | 45 CFR Parts 160 and 162.
0938-0878 | Part 422 Subparts F and G.
0938-0887 | 45 CFR 148.316, 148.318, 148.320.
0938-0897 | 412.22, 412.533.
0938-0907 | 412.230, 412.304, 413.65.
0938-0910 | 422.620, 422.624, 422.626.
0938-0911 | 426.400, 426.500.
0938-0915 | 421.120, 421.122.
0938-0916 | 483.16.
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810.
0938-0921 | 414.804.
0938-0931 | 45 CFR 142.408, 162.408, and 162.406.
0938-0933 | 438.50.
0938-0935 | 422 Subparts F and K.
0938-0936 | 423.
0938-0939 | 405.502.
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350.
0938-0950 | 405.910.
0938-0951 | 423.48.
0938-0953 | 405.1200 and 405.1202.
0938-0954 | 414.906, 414.908, 414.910, 414.914, 414.916.
0938-0957 | Part 423 Subpart R.
0938-0964 | 403.460, 411.47.
0938-0975 | 423.562(a).
0938-0976 | 423.568.
0938-0977 | Part 423 Subpart R.
0938-0978 | 423.464.
0938-0982 | 422.310, 423.301, 423.322, 423.875, 423.888.
0938-0990 | 423.56.
0938-0992 | 423.505, 423.514.

Addendum VIII—Medicare-Approved Carotid Stent Facilities

[January Through March 2006]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Effective Date 1/4/06

Grant Medical Center

111 S. Grant Avenue

Columbus, OH 43215

Medicare Provider #360017

Effective Date 1/6/06

Genesis HealthCare System

2951 Maple Avenue

Zanesville, OH 43701

Medicare Provider #360039

St. Joseph Regional Health Center

2801 Franciscan Drive

Bryan, TX 77802

Medicare Provider #450011

Washington Hospital Healthcare System

2000 Mowry Avenue

Fremont, CA 94538-1716

Medicare Provider #050195

Effective Date 1/12/06

Sparrow Hospital

1215 E. Michigan

P.O. Box 30480

Lansing, MI 48909-7980

Medicare Provider #230230

St. Mary's of Michigan Hospital

800 S. Washington Ave.

Saginaw, MI 48601-2524

Medicare Provider #230077

Effective Date 1/18/06

Michael Reese Hospital

2929 South Ellis Avenue

Chicago, IL 06016

Medicare Provider #140075

St. Vincent Infirmary Medical Center

Two St. Vincent Circle

Little Rock, AR 72205-5499

Medicare Provider #040007

St. Vincent Mercy Medical Center

2213 Cherry Street

Toledo, OH 43608-2691

Medicare Provider #360112

Touro Infirmary

1401 Foucher Street

New Orleans, LA 70115-3593

Medicare Provider #190046

Effective Date 1/20/06

Carroll Hospital Center

200 Memorial Avenue

Westminster, MD 21157

Medicare Provider #210033

DeTar Healthcare System

P.O. Box 2089

Victoria, TX 77902

Medicare Provider #450147

Long Beach Memorial Medical Center

2801 Atlantic Avenue

Long Beach, CA 90806-1737

Medicare Provider #050485

Effective Date 1/23/06

California Pacific Medical Center-Pacific Campus

2333 Buchanan Street

P.O. Box 7999

San Francisco, CA 94102

Medicare Provider #050047

MacNeal Hospital

3249 South Oak Park Avenue

Berwyn, IL 60402

Medicare Provider #140054

Silver Cross Hospital

1200 Maple Road

Joliet, IL 60432

Medicare Provider #140213

St. Joseph Hospital Kirkwood

525 Couch Avenue

Kirkwood, MO 63122-5594

Medicare Provider #260081

Effective Date 1/24/06

North Hills Hospital

4401 Booth Calloway Road

North Richland Hills, TX 76180

Medicare Provider #450087

Effective Date 1/26/06

Advocate Good Samaritan Hospital

3815 Highland Avenue

Downers Grove, IL 60515-1590

Medicare Provider #140288

Saint Joseph Regional Medical Center

801 East LaSalle Avenue

South Bend, IN 46617

Medicare Provider #150012

St. Francis Health Center-Topeka Kansas

1700 SW 7th Street

Topeka, KS 66606-1690

Medicare Provider #170016

Effective Date 2/1/06

Centro Cardiovascular de Puerto Rico y del Caribe

P.O. Box 366528

San Juan, Puerto Rico 00936-6528

Medicare Provider #400124

Glenwood Regional Medical Center

P.O. Box 35805

West Monroe, LA 71294-5805

Medicare Provider #190160

Southern Ocean County Hospital

1140 Route 72 West

Manahawkin, NJ 08050

Medicare Provider #310113

Effective Date 2/2/06

CHRISTUS Hospital

2830 Calder Avenue

P.O. Box 5405

Beaumont, TX 77726-5405

Medicare Provider #450034

Potomac Hospital

2300 Opitz Boulevard

Woodbridge, VA 22191

Medicare Provider #490113

Trinity Hospitals

One Burdick Expressway West

P.O. Box 5020

Minot, ND 58702-5020

Medicare Provider #350006

Effective Date 2/3/06

Beloit Memorial Hospital

1969 West Hart Road

Beloit, WI 53511

Medicare Provider #520100

Effective Date 2/6/06

Blount Memorial Hospital

907 E. Lamar Alexander Pkwy

Maryville, TN 37804-5016

Medicare Provider #440011

Centinela Freeman Regional Medical Center, Centinela Campus

555 East Hardy Street

Inglewood, CA 90301

Medicare Provider #050739

Florida Medical Center

5000 West Oakland Park Blvd

Ft. Lauderdale, FL 33313

Medicare Provider #100212

Renaissance Hospital

5500 39th Street

Groves, TX 77619

Medicare Provider #450123

Effective Date 2/8/06

Anaheim Memorial Medical Center

1111 West La Palma Avenue

Anaheim, CA 92801-2881

Medicare Provider #050226

Baylor Regional Medical Center at Plano

4700 Alliance Boulevard

Plano, TX 75093-5323

Medicare Provider #450890

UMass Memorial Medical Center

University Campus 55 Lake Avenue North

Worcester, MA 01655

Medicare Provider #220163

Lake Forest Hospital

660 North Westmoreland Road

Lake Forest, IL 60045-9989

Medicare Provider #140130

Effective Date 2/10/06

OSF Saint Anthony Medical Center

5666 East State Street

Rockford, IL 61108

Medicare Provider #140233

St. Vincent's Hospital

P.O. Box 12407

Birmingham, AL 35202-2407

Medicare Provider #010056

Effective Date 2/17/06

Carondelet St. Joseph's Hospital

350 North Wilmot Road

Tucson, AZ 85711-2678

Medicare Provider #030011

Cedars-Sinai Medical Center

8700 Beverly Boulevard

Los Angeles, CA 90048

Medicare Provider #050625

Hemet Valley Medical Center

1117 East Devonshire Avenue

Hemet, CA 92543

Medicare Provider #050390

North Colorado Medical Center

1801 16th Street

Greeley, CO 80631

Medicare Provider #060001

Saddleback Memorial Medical Center

24451 Health Center Drive

Laguna Hills, CA 92653

Medicare Provider #050603

Southwest Florida Regional Medical Center

2727 Winkler Avenue

Fort Myers, FL 33901

Medicare Provider #100220

Effective Date 2/22/06

Bridgeport Hospital

267 Grant Street

Bridgeport, CT 06610

Medicare Provider #070010

Hillcrest Baptist Medical Center

3000 Herring Avenue

P.O. Box 5100

Waco, TX 76708-0100

Medicare Provider #450101

MCSA, LLC

dba Medical Center of South Arkansas

700 West Grove

El Dorado, AR 71730

Medicare Provider #040088

Union Hospital

659 Boulevard

Dover, OH 44622

Medicare Provider #360010

West Jefferson Medical Center

1101 Medical Center Boulevard

Marrero, LA 70072

Medicare Provider #190039

Effective Date 2/24/06

Aventura Hospital and Medical Center

20900 Biscayne Boulevard

Aventura, FL 33180

Medicare Provider #100131

CHRISTUS St. John Hospital

18300 St. John Drive

Nassau Bay, TX 77058

Medicare Provider #450709

Flowers Hospital

4370 West Main Street

P.O. Box 6907

Dothan, AL 36305

Medicare Provider #010055

North Okaloosa Medical Center

151 Redstone Avenue, East

Crestview, FL 32539

Medicare Provider #100122

St. Luke's Community Medical Center

71200 St. Luke's Way, Suite 230

The Woodlands, TX 77384

Medicare Provider #450862

University Hospital and Medical Center

7201 North University Drive

Tamarac, FL 33321

Medicare Provider #100224

Effective Date 3/6/06

Fort Hamilton Hospital

630 Eaton Avenue

Hamilton, OH 45013

Medicare Provider #360132

INTEGRIS Southwest Medical Center

4401 South Western

Oklahoma City, OK 73109

Medicare Provider #370106

Memorial Hermann Southeast Hospital

11800 Astoria Boulevard

Houston, TX 77089

Medicare Provider #450184

Temple University Hospital

3401 North Broad Street

Philadelphia, PA 19140

Medicare Provider #390027

UPMC Passavant

9100 Babcock Boulevard

Pittsburgh, PA 15237-5842

Medicare Provider #107920

Effective Date 3/9/06

Enloe Medical Center

1531 Esplanade

Chico, CA 95926

Medicare Provider #050039

Northwest Medical Center—Washington County

609 W. Maple Avenue

Springdale, AR 72764

Medicare Provider #040022

Effective Date 3/13/06

Northwest Medical Center—Bentonville

3000 Medical Center Parkway

Bentonville, AR 72712

Medicare Provider #040138

St. Rose Dominican Hospitals, Siena Campus

3001 St. Rose Parkway

Henderson, NV 89052

Medicare Provider #290045

Effective Date 3/20/06

Bayshore Community Hospital

727 North Beers Street

Holmdel, NJ 07733

Medicare Provider #310112

JFK Medical Center

65 James Street

Edison, NJ 08818

Medicare Provider #310108

Lakewood Regional Medical Center

P.O. Box 6070

3700 East South Street

Lakewood, CA 90712

Medicare Provider #050581

Memorial Hospital of Burlington

252 McHenry Street

P.O. Box 400

Burlington, WI 53105-0400

Medicare Provider #520059

Methodist Heart Hospital

7700 Floyd Curl Drive

San Antonio, TX 78229

Medicare Provider #450388

Methodist Specialty and Transplant Hospital

8026 Floyd Curl Drive

San Antonio, TX 78229

Medicare Provider #450388

Muhlenberg Regional Medical Center

Park Avenue & Randolph Road

Plainfield, NJ 07061

Medicare Provider #310063

Effective Date 3/23/06

Danbury Hospital

24 Hospital Avenue

Danbury, CT 06810

Medicare Provider #070033

Lake Hospital System, Inc.

10 East Washington Street

Painesville, OH 44077-3472

Medicare Provider #360098

Sinai Hospital of Baltimore

2401 West Belvedere Avenue

Baltimore, MD 21215-5271

Medicare Provider #210012

Sutter General Hospital dba Sutter Memorial Hospital

5151 F Street

Sacramento, CA 95819

Medicare Provider #050108

Valley Hospital Medical Center

620 Shadow Lane

Las Vegas, NV 89106

Medicare Provider #290021

Warren Hospital

185 Roseberry Street

Phillips, NJ 08865

Medicare Provider #310060

Effective Date 3/28/06

Aurora Medical Center—Kenosha

10400 75th Street

Kenosha, WI 53142-7884

Medicare Provider #520189

Caritas Good Samaritan Medical Center

235 N. Pearl Street

Brockton, MA 02301

Medicare Provider #220111

Medical City Dallas Hospital

7777 Forest Lane

Dallas, TX 75230

Medicare Provider #450647

Southeast Missouri Hospital

1701 Lacey Street

Cape Cirardeau, MO 63701

Medicare Provider #260110

St. Joseph Hospital

360 Broadway

P.O. Box 403

Bangor, ME 04402-0403

Medicare Provider #200001

[FR Doc. 06-5486 Filed 6-22-06; 8:45 am]

BILLING CODE 4120-01-P